ENVIRONMENTAL PROTECTION AGENCY

[FRL-9496-9; Docket ID No. EPA-HQ-ORD-2011-0050]

Draft Integrated Science Assessment for Ozone and Related Photochemical Oxidants

AGENCY: Environmental Protection Agency (EPA).

ACTION: Notice of extension of public comment.

SUMMARY: EPA is announcing an extension of the public comment period for the second external review draft of a document titled, “Second External Review Draft Integrated Science Assessment for Ozone and Related Photochemical Oxidants” (EPA/600/R-10/076B). The original Federal Register notice announcing the public comment period was published on September 30, 2011 (76 FR 60820). This assessment document was developed by the National Center for Environmental Assessment (NCEA) within EPA's Office of Research and Development as part of the review of the national ambient air quality standards (NAAQS) for ozone.

DATES: The public comment period began on September 30, 2011, and ends December 30, 2011. Comments must be received by EPA by December 30, 2011.

ADDRESSES: The “Second External Review Draft Integrated Science Assessment for Ozone and Related Photochemical Oxidants” will be available primarily via the Web page under the Recent Additions and Publications menus at http://www.epa.gov/ncea. A limited number of CD-ROM or paper copies will be available. Contact Ms. Marieka Boyd by phone ((919) 541-0031) facsimile ((919) 541-5078) or email (Boyd.Marieka@epa.gov) to request either of these, and please provide your name, your mailing address, and the document title, “Second External Review Draft Integrated Science Assessment for Ozone and Related Photochemical Oxidants” (EPA/600/R-10/076B) to facilitate processing of your request.

FOR FURTHER INFORMATION CONTACT: For technical information, contact Dr. James Brown, NCEA; telephone: (919) 541-0765; facsimile: (919) 541-1818; or email: Brown.James@epa.gov.

Comments may be submitted electronically via http://www.regulations.gov, by mail, by facsimile, or by hand delivery/courier. Please follow the detailed instructions provided in the SUPPLEMENTARY INFORMATION section of Federal Register Notice (76 FR 60820).

For information on submitting comments to the docket, please contact the Office of Environmental Information Docket; telephone: (202) 566-1752; facsimile: (202) 566-1753; or email: ORD.Docket@epa.gov.

Dated: November 18, 2011.
Darrell A. Winner,
Acting Director, National Center for Environmental Assessment.

[FR Doc. 2011-30555 Filed 11-25-11; 8:45 am]

BILLING CODE 6560-50-P